JUDICIAL CONFERENCE OF THE UNITED STATES

Advisory Committee on Appellate Rules; Meeting of the Judicial Conference

AGENCY: Advisory Committee on Appellate Rules, Judicial Conference of the United States.

ACTION: Notice of open meeting.

SUMMARY: The Advisory Committee on Appellate Rules will hold a virtual meeting on October 20, 2020. The meeting is open to the public. When a meeting is held virtually, members of the public may join by telephone conference to listen but not participate. An agenda and supporting materials will be posted at least 7 days in advance of the meeting at: http://www.uscourts.gov/rules-policies/records-and-archives-rules-committees/agenda-books.

DATES: October 20, 2020.

Time: 10 a.m.-5 p.m. (Eastern).

ADDRESSES: N/A.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

Authority: 28 U.S.C. 2073.

Dated: July 30, 2020.
Shelly L. Cox,
Rules Committee Staff.

[FR Doc. 2020-17004 Filed 8-4-20; 8:45 am]

BILLING CODE 2210-55-P